DEPARTMENT OF HOMELAND SECURITY

Federal Emergency Management Agency

44 CFR Part 67

[Docket ID FEMA-2011-0002]

Final Flood Elevation Determinations

Correction

In rule document 2011-15507 appearing on pages 36373-36384 in the issue of June 22, 2011, and C1-2011-15507 appearing on page 61279 in the issue of October 4, 2011, make the following corrections:

§ 67.11 [Corrected]

1. On page 36379, in § 67.11, the table entitled “Clinton County, Iowa, and Incorporated Areas” is corrected to read as set forth below:

Flooding source(s) | Location of referenced elevation | * Elevation in feet (NGVD) + Elevation in feet (NAVD) # Depth in feet above ground ‸ Elevation in meters (MSL) Modified | Communities affected
Clinton County, Iowa, and Incorporated Areas
Docket No.: FEMA-B-1100
Mississippi River | Approximately 11.2 miles downstream of U.S. Route 30 | +585 | City of Camanche, City of Clinton, Unincorporated Areas of Clinton County.
| Approximately 12.8 miles upstream of State Highway 136 | +594
* National Geodetic Vertical Datum.
+ North American Vertical Datum.
# Depth in feet above ground.
‸ Mean Sea Level, rounded to the nearest 0.1 meter.
ADDRESSES
City of Camanche
Maps are available for inspection at 917 3rd Street, Camanche, IA 52730.
City of Clinton
Maps are available for inspection at 110 5th Avenue South, Clinton, IA 52732.
Unincorporated Areas of Clinton County
Maps are available for inspection at 329 East 11th Street, DeWitt, IA 52742.

2. On pages 36379-36380, in § 67.11, the table entitled “Muscatine County, Iowa, and Incorporated Areas” is corrected to read as set forth below:

Flooding source(s) | Location of referenced elevation | * Elevation in feet (NGVD) + Elevation in feet (NAVD) # Depth in feet above ground ‸ Elevation in meters (MSL) Modified | Communities affected
Muscatine County, Iowa, and Incorporated Areas
Docket No.: FEMA-B-1089
Mississippi River | Approximately 7.1 miles downstream of State Route 92 | +554 | City of Muscatine, Unincorporated Areas of Muscatine County.
| Approximately 3.3 miles upstream of the confluence with Pine Creek | +560
Mud Creek | Approximately 1.2 miles upstream of Story Avenue | +658 | City of Wilton.
| Approximately 1.4 miles upstream of Story Avenue | +658
* National Geodetic Vertical Datum.
+ North American Vertical Datum.
# Depth in feet above ground.
‸ Mean Sea Level, rounded to the nearest 0.1 meter.
ADDRESSES
City of Muscatine
Maps are available for inspection at 215 Sycamore Street, Muscatine, IA 52761.
City of Wilton
Maps are available for inspection at 104 East 4th Street, Wilton, IA 52778.
Unincorporated Areas of Muscatine County
Maps are available for inspection at 3610 Park Avenue West, Muscatine, IA 52761.

[FR Doc. C2-2011-15507 Filed 4-6-12; 8:45 am]

BILLING CODE 1505-01-D